DEPARTMENT OF ENERGY

Federal Energy Regulatory Commission

Combined Notice of Filings #1

Take notice that the Commission received the following electric corporate filings:

Docket Numbers: EC12-142-000.

Applicants: Blue Sky East, LLC.

Description: Application for Authorization Under Section 203 of the Federal Power Act and Request for Waivers, Confidential Treatment, Shortened Comment Period and Expedited Action of Blue Sky East, LLC.

Filed Date: 9/18/12.

Accession Number: 20120918-5137.

Comments Due: 5 p.m. ET 10/9/12.

Take notice that the Commission received the following electric rate filings:

Docket Numbers: ER12-2598-001.

Applicants: New York Independent System Operator, Inc.

Description: Amendment to NYISO OATT Rate Schedule 1 09-07-12 Filing to be effective 1/1/2013.

Filed Date: 9/18/12.

Accession Number: 20120918-5115.

Comments Due: 5 p.m. ET 10/9/12.

Docket Numbers: ER12-2650-000.

Applicants: Nevada Power Company.

Description: Rate Schedule No. 132 Concurrence in APS RS No. 260 Perrin Ranch LGIA to be effective 10/21/2011.

Filed Date: 9/18/12.

Accession Number: 20120918-5123.

Comments Due: 5 p.m. ET 10/9/12.

Docket Numbers: ER12-2651-000.

Applicants: Midwest Independent Transmission System Operator, Inc.

Description: SA 1756 METC-Consumers G479b to be effective 12/1/2012.

Filed Date: 9/18/12.

Accession Number: 20120918-5127.

Comments Due: 5 p.m. ET 10/9/12.

Docket Numbers: ER12-2652-000.

Applicants: Wells Fargo Commodities, LLC.

Description: Wells Fargo Commodities, LLC submits Notice of Cancellation of its electric markets based tariff.

Filed Date: 9/18/12.

Accession Number: 20120918-5024.

Comments Due: 5 p.m. ET 10/9/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2012.
Nathaniel J. Davis, Sr.,
Deputy Secretary.

[FR Doc. 2012-25266 Filed 10-12-12; 8:45 am]

BILLING CODE 6717-01-P